DEPARTMENT OF DEFENSE

Department of the Air Force

Implementation of the Base Realignment and Closure (BRAC) Final Recommendations and Associated Actions for the 104th Fighter Wing, Massachusetts Air National Guard at Westfield-Barnes Airport, Westfield, MA

AGENCY: Department of the Air Force, National Guard Bureau.

ACTION: Record of decision.

SUMMARY: On December 10, 2007, the United States Air Force signed the Record of Decision (ROD) for Implementation of the BRAC Final Recommendations and Associated Actions for the 104th Fighter Wing, Massachusetts Air National Guard at Westfield-Barnes Airport, Westfield, Massachusetts. The ROD states the Air Force decision to implement the Preferred Alternative (focus aircraft take-offs on Runway 02, which will result in most of the take-offs occurring toward the north of the airport).

The decision was based on matters discussed in the Final Environmental Impact Statement (EIS), inputs from the public and regulatory agencies, and other relevant factors. The Final EIS was made available on November 2, 2007 in the Federal Register (Volume 72, Number 212, Pages 62229-62230) with a wait period ending December 3, 2007. The ROD documents only the decision of the Air Force with respect to the proposed Air Force actions analyzed in the Final EIS.

FOR FURTHER INFORMATION CONTACT: Mr. Robert Dogan, National Guard Bureau/A7CVN, Conaway Hall, 3500 Fetchet Avenue, Andrews AFB, MD 20762-5157 or call (301) 836-8859.

Bao-Anh Trinh,
Air Force Federal Register Liaison Officer.

[FR Doc. E7-25410 Filed 12-28-07; 8:45 am]

BILLING CODE 5001-05-P